DEPARTMENT OF HEALTH AND HUMAN SERVICES

Health Resources and Services Administration

Privacy Act of 1974; Report of an Altered System of Records

AGENCY: Department of Health and Human Services (HHS), Health Resources and Services Administration (HRSA).

ACTION: Notice of an Altered System of Records (SOR).

SUMMARY: In accordance with the requirements of the Privacy Act of 1974, the Health Resources and Services Administration (HRSA) is publishing notice of a proposal to substantially revise “Public Health Service (PHS) and National Health Service Corps (NHSC) Scholarship/Loan Repayment Participants Records System, HHS/HRSA/BPHC,” HRSA Systems of Records No. 09-15-0037, to reflect organizational and physical location changes, and to update the categories of individuals and records covered by the system. HRSA is also proposing to (a) delete the Nursing Student Education Direct Loan Program, which is not administered by HRSA; (b) add records pertaining to the Nursing Scholarship Program and the Student/Resident Experiences and Rotations in Community Health (SEARCH) Program; and (c) incorporate the Faculty Loan Repayment Program and the Physician Shortage Area Scholarship Program, which previously had their own System of Records Notices (09-15-0058, and 09-15-0042 respectively). These changes will require renaming the system of records and expanding the Authority to maintain the system. HRSA has updated the section on maintenance and storage of records to reflect current technologies, as well as Purpose(s), Safeguards, Retention and Disposal (of records), Notification Procedures, and Records source categories to detail current operations. HRSA is proposing to delete routine uses that are obsolete and to add new routine uses that cover disclosures of information needed for effective program operations.

DATES: HRSA filed an altered system report with the Chair of the House Committee on Government Reform and Oversight, the Chair of the Senate Committee on Homeland Security and Governmental Affairs, and the Administrator, Office of Information and Regulatory Affairs, Office of Management and Budget (OMB) on March 15, 2010. To ensure all parties have adequate time in which to comment, the altered systems, including the routine uses, will become effective 30 days from the publication of the notice or 40 days from the date it was submitted to OMB and Congress, whichever is later, unless HRSA receives comments that require alterations to this notice.

ADDRESSES: Please address comments to: Policy Director, Bureau of Clinician Recruitment and Service (BCRS), Health Resources and Services Administration (HRSA), 5600 Fishers Lane, Room 8-15, Rockville, MD 20857, telephone (301) 443-4154, FAX (301) 594-4076. Comments received will be available for inspection at this same address from 9 a.m. to 3 p.m. (Eastern Standard Time Zone), Monday through Friday.

FOR FURTHER INFORMATION CONTACT: Associate Administrator, Bureau of Clinician Recruitment and Service (BCRS), Health Resources and Services Administration (HRSA), 5600 Fishers Lane, Room 8-05, Rockville, MD 20857, telephone (301) 594-4200, FAX (301) 594-4076.

SUPPLEMENTARY INFORMATION: Major Modification of 09-15-0037 is to reflect the organizational, program, technology, statutory and implementation changes.

1. HRSA proposes to rename the system of records as “Public Health and National Health Service Corps (PH/NHSC) Scholarship Training Program, the Physician Shortage Area Scholarship Program (PSASP), National Health Service Corps Scholarship Program (NHSC SP), National Health Service Corps Loan Repayment Program (NHSC LRP), NHSC Student/Resident Experiences and Rotations in Community Health (SEARCH), Nursing Education Loan Repayment Program (NELRP), Nursing Scholarship Program (NSP), Native Hawaiian Health Scholarship Program (NHHSP), and Faculty Loan Repayment Program (FLRP), Applicants and/or Participants Records System, HHS/HRSA/BCRS.”

2. HRSA proposes to expand the Authority to maintain the system to include: Section 333 of the PHS Act, as amended (42 U.S.C. 254f), Assignment of Corps Personnel; Section 225 of the PHS Act (42 U.S.C. 234), as in effect on September 30, 1977, PH/NHSC Scholarship Training Program; Section 409(b) of the Health Professions Educational Assistance Act of 1976, (42 U.S.C. 259g), PSASP; Sections 338A-H of the PHS Act, as amended (42 U.S.C. 254l-q), NHSC Scholarship and Loan Repayment Programs; Sections 336(c) and 331(b)(1) of the PHS Act (42 U.S.C. 254h-1(c) and 254d(b)(1)), SEARCH; Section 846 of the PHS Act, as amended (42 U.S.C. 297n), Nursing Education Loan Repayment and Nursing Scholarship Programs; Section 10 of the Native Hawaiian Health Care Improvement Act, as amended (42 U.S.C. 11709), Native Hawaiian Health Scholarship Program; Section 738(a) of the PHS Act (42 U.S.C. 293b(a)), Faculty Loan Repayment Program; Section 202 of Title II of Public Law 92-157 (42 U.S.C. 3505d), National Health Manpower Clearinghouse; 31 U.S.C. 7701(c), Debt Collection Improvement Act of 1996, Requirement That Applicant Furnish Taxpayer Identifying Number; Section 215(a) of the PHS Act, as amended (42 U.S.C. 216(a)), pertaining to PHS commissioned officers, and 5 U.S.C. 3301 pertaining to civil service employees, both of which authorize verification of an individual's suitability for employment.

3. HRSA proposes to expand the categories of records within the system to include: Name, address(es), telephone number(s), e-mail address(es), Social Security Number (SSN), scholarship, loan repayment, or SEARCH application and associated forms/documents, contracts, employment data, professional performance and credentialing history of licensed health professionals; preference for site-selection; personal, professional, and demographic background information; academic and/or service progress reports (which include related data, correspondence, and professional performance information consisting of continuing education, performance awards, and adverse or disciplinary actions); commercial credit reports, educational data including tuition and other related education expenses; educational data including academic program and status; employment status verification (which includes certifications and verifications of service obligation); medical data, financial data, payment data and related forms, deferment/placement/suspension/waiver data and supporting documentation; repayment/delinquent/default status information, correspondence to and from Program applicants and participants and/or their representatives, Claims Collection Litigation Reports for default cases referred to the Department of Justice (DOJ).

4. HRSA proposes to update the purposes of this system of records to more accurately describe the ways in which the Programs currently utilize the information maintained within. Specifically, to obtain marketing and recruitment information from individuals who registered to complete an online application but did not submit or complete an application, applicants and program participants; identify and select qualified individuals to participate in the Programs; to respond to inquiries from Program applicants and participants, their attorneys, and Congressional representatives; to compile and generate managerial and statistical reports; to track recruitment of SEARCH participants for the NHSC Scholarship and Loan Repayment Programs and to determine how many non-obligated SEARCH participants ultimately practice primary health care in HPSAs; and through the Ambassador and Alumni activities, to advocate for more health professions students to choose primary care, to mentor students and clinicians, to recruit students and clinicians for the NHSC Scholarship and Loan Repayment Programs, and to train community leaders, their own institution and local clinicians to care about and for people in need.

5. HRSA proposes to update the Safeguards by: Redefining Authorized Users (system managers and their staff, BCRS headquarters officials, HRSA Office of Performance Review staff, financial and fiscal management personnel, Office of the General Counsel, Office of Information Technology personnel, Papa Ola Lokahi (POL) (with respect to NHHSP records), and HRSA grantees and contractors who assist with implementation of the Programs) and Physical Safeguards (rooms where records are stored are locked when not in use, during regular business hours, rooms are unlocked but are controlled by on-site personnel (including the file room), security guards perform random checks on the physical security of the storage locations after duty hours, including weekends and holidays); entry control to servers and other computer equipment used to process identifiable data (located in secured areas and use physical access devices (e.g., keys, locks, combinations, card readers) and/or security guards to control entries into the facility); fire protection (all facilities housing HRSA information systems maintain fire suppression and detection devices/systems (e.g., sprinkler systems, handheld fire extinguishers, fixed fire hoses, and or smoke detectors) that can be activated in the event of a fire); and a description of POL's security procedures (the building in which POL's office is located is publicly accessible but secured, with limited accessibility before and after work hours, security guards visit the building at night, NHHSP's office suite is kept locked during work hours and individual offices are also locked when vacant, participant files are kept in a locked cabinet in a locked office and access to these files is limited to approved staff members, when the area the files are in is not under the direct control of NHHSP staff the office and cabinet are kept locked, the File server is behind a locked office door in a locked server cabinet and backup tapes are stored in a locked, fireproof floor safe, and a secure, confidential off-site vault).

6. HRSA proposes to update Retention and disposal as follows: Records are retained and disposed of under the authority of the HRSA Records Control Schedule contained in HRSA Appendix B-351, Item 25.P. Participant case files are transferred to the Federal Records Center in Suitland, Maryland, one year after closeout and are destroyed 15 years later. Unfunded or withdrawn applicant case files are destroyed 6 months after the end of the fiscal year in which the individual applied.

7. HRSA proposes to update Notification Procedures as follows: For Requests in person a notation is added that a Federal-issued picture ID is required to access many Federal facilities such as the Parklawn Building; and for Requests by mail dates of participation is expanded to encompass all the Programs in the system, and current status is expanded to include in training, in service, or date of application if the individual was not selected for the program.

8. HRSA proposes to update the Records source categories to include: Subject individual; educational institutions; internship and/or residency training progress reports; employers; NHSC approved service sites; critical nursing shortage facilities; lending institutions and loan servicing agencies; health professional associations; National Practitioner Data Bank and/or Healthcare Integrity and Protection Data Bank, HHS grantees and contractors/subcontractors; consumer reporting agencies/credit bureaus; other Federal agencies, including but not limited to the Department of the Treasury, IRS, and the U.S. Postal Service; State health professions licensing boards and/or the Federation of State Medical Boards or a similar non-government entity; and third parties who provide references concerning the subject individual.

9. HRSA proposes to modify/alter/delete several published routine uses, and to include fifteen (15) new routine uses when all requirements have been met. HRSA is modifying/altering routine use #3 by expansion to include Tribal authorities and State licensing boards, routine use #4 has been expanded to include other health professions schools and to determine academic status of scholars, routine use #5 has been deleted and replaced with a new routine use #5 (see below), routine use #6 is renumbered as #8 and is expanded to include grantees and sites, routine use #7 is renumbered as #10 and is expanded to include grantees and sites and inquiries to the Excluded Parties List System and the National Practitioner Data Bank and/or Healthcare Integrity and Protection Data Bank, routine use #8 is renumbered as #12, routine use #9 is expanded to include disclosure to State or local government licensing board and/or to the Federation of State Medical Boards or a similar non-government entity, prospective employers, or to site representatives, and Primary Care Associations and Primary Care Offices, routine use #10 is renumbered as #14 and expanded to include loan repayment applicants, validation of loans eligible for loan repayment and whether the applicant has ever defaulted on a Federal or State obligation or had delinquent Federal or State debts, including judgment liens and to locate delinquent and/or non-compliant defaulters, routine use #11 is renumbered as #17, routine use #12 is renumbered as #18, routine use #13 is renumbered as #19, routine use #14 is renumbered as #21 and expanded to include reference to HHS Claims Collection regulation at 45 CFR 30.32(c), requiring HHS to report to the Treasury Department, IRS, as taxable income to the debtor, the discharge of any indebtedness of $600 or more when HHS terminates collection activity, routine use #15 is deleted and replaced by a new routine use #15 (see below), routine use #16 is renumbered as #22, routine use #17 is renumbered as #24 and expanded to include bonus clauses and to determine the existence of another service obligation, routine use #18 is expanded from disclosure to the IRS to `another agency.'

HHS proposes to add 15 new routine uses as follows: Routine use #5 provides disclosure to schools and training programs to ascertain enrollment and completion date, routine use #6 provides disclosure to entities for the purpose of their providing support during service, routine use #7 provides disclosure of SEARCH participants for matching purposes, routine use #11 provides disclosure to State Primary Care Offices (PCOs) and Primary Care Associations (PCAs) and site representatives to facilitate recruitment, placement and service monitoring, routine use #13 provides disclosure to Federal and State health agencies and law enforcement regarding a program participant who has a physical or mental condition that is, or has the potential to become, a public health risk, or whose aberrant behavior may pose such a risk, routine use #15 enables HHS to use information to prepare and maintain financial management and accounting documentation related to obligations and disbursements of funds, including notifications to the Department of the Treasury related to payments to, or on behalf of, awardees, routine use #16 provides disclosure to lending institutions for the purpose of obtaining payoff balances on educational loans, routine use #20 provides disclosure to another Federal, State, or local agency or private employer to whom a Program defaulter (debtor) has applied for funds, or employment involving Federal funds, for the purpose of ensuring that the Program defaulter does not receive Federal funds for which he/she is ineligible, routine use #23 provides disclosure to the Department of Justice, and applicable State agencies in order to exclude a debtor from Medicare/Medicaid or to conclude a settlement agreement staying such an exclusion, routine use #25 provides disclosure for research purposes, routine use #26 provides disclosure in response to a subpoena, routine use #27 provides disclosure to HHS/PSC/FOH physicians to review and provide a written opinion of the medical documentation submitted by participants requesting to suspend or waive their service or payment obligation, routine use #28 provides disclosure in response to a suspected or confirmed breach of the security or confidentiality of information. There is also a provision to allow transfer of records to System No. 09-40-0012, Debt Management and Collection System, HHS/PSC/FMS and System No. 09-90-0024, Financial Transactions of HHS Accounting and Finance Offices, HHS/ASMB, for payment of Program funds and debt collection purposes.

In addition to updating and making editorial corrections to improve the clarity of the system notice, this alteration involves the updating of the System Location and System Manager listing, and revisions of the Categories of Records, Purposes, Authority, Safeguards, Retention and Disposal, and Notification Procedures sections.

Dated: March 29, 2010.
Mary K. Wakefield,
Administrator.

SYSTEM NUMBER: 09-15-0037.

SYSTEM NAME:

Public Health and National Health Service Corps (PH/NHSC) Scholarship Training Program, the Physician Shortage Area Scholarship Program (PSASP), National Health Service Corps Scholarship Program (NHSC SP), National Health Service Corps Loan Repayment Program (NHSC LRP), NHSC Student/Resident Experiences and Rotations in Community Health (SEARCH), Nursing Education Loan Repayment Program (NELRP), Nursing Scholarship Program (NSP), Native Hawaiian Health Scholarship Program (NHHSP), and Faculty Loan Repayment Program (FLRP), Applicants and/or Participants Records System, HHS/HRSA/BCRS.

SECURITY CLASSIFICATION:

None.

SYSTEM LOCATION:

For a specified period and in accordance with the archiving rules, the paper records will reside at the Bureau of Clinician Recruitment and Service (BCRS), Health Resources and Services Administration (HRSA), U.S. Department of Health and Human Services (HHS), 5600 Fishers Lane, Rm. 8A-16, Rockville, MD 20857. The electronic copy of the records for PH/NHSC, PSASP, and NHSC SP and LRP applicants and participants resides in BHCDANET at Center for Information Technology, National Institutes of Health, 12 South Drive, Room 1100, Bethesda, Maryland 20892. Development of a replacement data system for this legacy system is currently on-going; information pertaining to this new system will be available upon request. Electronic copy of the records for NELRP and NSP resides in the Nursing Information System at 5600 Fishers Lane, Rockville, Maryland 20857. Electronic copy of the records for FLRP resides in the Division of Applications and Awards, BCRS, HRSA, HHS, 5600 Fishers Lane, Rm. 8-30, Rockville, MD 20857.

Archived records are stored at the Washington National Records Center, 4205 Suitland Road, Suitland, MD 20746.

NHHSP records are also located at Papa Ola Lokahi (POL), 345 Queen St., #706, Honolulu, HI 96813.

Additional records are kept by contractors to the Programs at the following locations:

NSP and FLRP, HRSA Call Center, 12530 Parklawn Drive, Suite 350, Rockville, Maryland 20857.

NHSC SCH and LRP, Discovery Logic, 1375 Piccard Drive, Suite 360, Rockville, Maryland 20850.

NHSC LRP and NELRP, Focal Point Consulting Group, 1025 Vermont Avenue NW., Suite 1000, Washington, DC 20005.

BL Seamon Corporation, 9001 Edmonston Road, Suite 200, Greenbelt, MD 20770.

Since contractors may change, a current listing of contractors and locations (if different than above) is available upon request.

CATEGORIES OF INDIVIDUALS COVERED BY THE SYSTEM:

Individuals who have applied for, who have been approved to receive, who are receiving, or who have received awards under the following programs: The Public Health and National Health Service Corps (PH/NHSC) Scholarship Training Program, the Physician Shortage Area Scholarship Program (PSASP), the National Health Service Corps Scholarship Program (NHSC SP), the National Health Service Corps Loan Repayment Program (NHSC LRP), the Nursing Education Loan Repayment Program (NELRP), the Nursing Scholarship Program (NSP), the Native Hawaiian Health Scholarship Program (NHHSP), and Faculty Loan Repayment Program (FLRP). Individuals who have applied to participate, are participating, or have participated in the NHSC Student/Resident Experiences and Rotations in Community Health (SEARCH) Program.

Individuals who have applied to serve, have been selected to serve, are currently serving, or have served as NHSC volunteers or Ready Responders.

Individuals who have applied to participate, are currently participating or have participated as an Ambassador for the NHSC or who are Alumni of the NHSC.

Individuals who indicate an interest in employment in or an assignment to a medical facility located in a Health Professional Shortage Area (HPSA) or a medically underserved population area, including public and Federal medical facilities, such as Bureau of Prisons medical facilities, Indian Health Service health care facilities, and other Federally sponsored health care facilities.

CATEGORIES OF RECORDS IN THE SYSTEM:

Contains name, address(es), telephone number(s), e-mail address(es), Social Security Number (SSN), scholarship, loan repayment, or SEARCH application and associated forms/documents, contracts, employment data, professional performance and credentialing history of licensed health professionals; preference for site-selection; personal, professional, and demographic background information; academic and/or service progress reports (which include related data, correspondence, and professional performance information consisting of continuing education, performance awards, and adverse or disciplinary actions); commercial credit reports, educational data including tuition and other related education expenses; educational data including academic program and status; employment status verification (which includes certifications and verifications of service obligation); medical data, financial data, payment data and related forms, deferment/placement/suspension/waiver data and supporting documentation; repayment/delinquent/default status information, correspondence to and from Program applicants and participants and/or their representatives, Claims Collection Litigation Reports for default cases referred to the Department of Justice (DOJ).

AUTHORITY FOR MAINTENANCE OF THE SYSTEM:

Section 333 of the Public Health Service (PHS) Act, as amended (42 U.S.C. 254f), Assignment of Corps Personnel; Section 225 of the PHS Act (42 U.S.C. 234), as in effect on September 30, 1977, PH/NHSC Scholarship Training Program; Section 409(b) of the Health Professions Educational Assistance Act of 1976, (42 U.S.C. 259g), PSASP; Sections 338A-H of the PHS Act, as amended (42 U.S.C. 254l-q), NHSC Scholarship and Loan Repayment Programs; Sections 336(c) and 331(b)(1) of the PHS Act (42 U.S.C. 254h-1(c) and 254d(b)(1)), SEARCH; Section 846 of the PHS Act, as amended (42 U.S.C. 297n), Nursing Education Loan Repayment and Nursing Scholarship Programs; Section 10 of the Native Hawaiian Health Care Improvement Act, as amended (42 U.S.C. 11709), Native Hawaiian Health Scholarship Program; Section 738(a) of the PHS Act (42 U.S.C. 293b(a)), Faculty Loan Repayment Program; Section 202 of Title II of Public Law 92-157 (42 U.S.C. 3505d), National Health Manpower Clearinghouse; 31 U.S.C. 7701(c), Debt Collection Improvement Act of 1996, Requirement That Applicant Furnish Taxpayer Identifying Number; Section 215(a) of the PHS Act, as amended (42 U.S.C. 216(a)), pertaining to PHS commissioned officers, and 5 U.S.C. 3301 pertaining to civil service employees, both of which authorize verification of an individual's suitability for employment.

PURPOSE(S):

The purposes of this system of records are as follows:

With respect to all the above-identified Programs:

1. To obtain marketing and recruitment information from individuals who registered to complete an online application but did not submit or complete an application, applicants and program participants.

2. To identify and select qualified individuals to participate in the above-identified Programs (including NHSC Ready Responders, Ambassadors, Alumni, and volunteers);

3. To maintain records on and to verify applicants' or Program participants' credentials and educational background, and previous and current professional employment data and performance history information to verify that all claimed background and employment data are valid and all claimed credentials are current and in good standing from selection for an award through the completion of service;

4. To monitor loan repayment and scholarship activities, including, but not limited to, payment tracking, deferment of service obligation, service compliance at approved sites, service completion, default, and suspension or waiver of the obligation;

5. To assist the HHS Program Support Center (PSC), the DOJ, and other government officials in the collection of Program debts;

6. To respond to inquiries from Program applicants and participants, their attorneys, and Congressional representatives.

7. To compile and generate managerial and statistical reports.

8. With respect to the PH/NHSC and NHSC SP, NHHSP, NSP, NHSC LRP, NELRP, and FLRP: (a) To monitor related activities, such as site matching and placement at approved sites, service completion, suspension and waiver, default, and claims determination; (b) To select and match scholarship recipients, loan repayors, and other individuals for assignment to or employment with a health care or other facility appropriate to the Programs' purposes; (c) To monitor the services provided by the Programs' health providers;

9. With respect to the SEARCH Program, to track recruitment of SEARCH participants for the NHSC Scholarship and Loan Repayment Programs and to determine how many non-obligated SEARCH participants ultimately practice primary health care in HPSAs.

10. With respect to the Ambassador and Alumni activities, to advocate for more health professions students to choose primary care, to mentor students and clinicians, to recruit students and clinicians for the NHSC Scholarship and Loan Repayment Programs, and to train community leaders, their own institution and local clinicians to care about and for people in need.

ROUTINE USES OF RECORDS MAINTAINED IN THE SYSTEM, INCLUDING CATEGORIES OF USERS AND THE PURPOSES OF SUCH USES:

1. HHS may disclose to a Member of Congress or to a Congressional staff member information from the record of an individual in response to an inquiry from the congressional office made at the written request of that individual.

2. HHS may disclose information from this system of records to the DOJ, or to a court or other tribunal when:

(a) HHS, or any component thereof, or

(b) Any HHS employee in his or her official capacity; or

(c) Any HHS employee in his or her individual capacity where the Department of Justice (or HHS, where it is authorized to do so) has agreed to represent the employee; or

(d) The United States or any agency thereof where HHS determines that the litigation is likely to affect HHS or any of its components, is a party to litigation or has an interest in such litigation, and HHS determines that the use of such records by the DOJ, the court or other tribunal is relevant and necessary to the litigation and would help in the effective representation of the governmental party, provided, however, that in each case, HHS determines that such disclosure is compatible with the purpose for which the records were collected.

3. In the event that a record on its face, or in conjunction with other records, indicates a violation or potential violation of law, whether civil, criminal, or regulatory in nature, and whether arising by general statute or particular program statute, or by regulation, rule or order issued pursuant thereto, the relevant records in the system of records may be referred to the appropriate agency, whether Federal, State, local, or Tribal, or other public authority responsible for enforcing, investigating or prosecuting such violation or charged with enforcing or implementing the statute or rule, regulation or order issued pursuant thereto, if the information disclosed is relevant to any enforcement, regulatory, investigative or prosecutive responsibility of the receiving entity. This includes, but is not limited to, disciplinary actions by State licensing boards against current or former Program participants.

4. HHS may disclose records consisting of names, SSN, disciplines, current mailing addresses, and dates of scholarship support and dates of graduation of the Programs' scholarship recipients to (a) designated coordinators at each health professions school participating in the scholarship program for the purpose of determining educational expenses and resulting levels of scholarship support, and for the purpose of guiding and informing these recipients about the nature of their service obligation; and (b) schools attended by NHSC SP, NSP, and NHHSP recipients who have taken a leave of absence from school or are repeating coursework, for the purpose of determining their academic status and whether their scholarship support should be suspended or resumed, as appropriate.

5. HHS may disclose information consisting of name, address, discipline/specialty, SSN from this system of records to a participant's health professions school, residency program, or other postgraduate training program, for the purpose of ascertaining a Program participant's enrollment status and training completion or graduation date.

6. HHS may disclose records consisting of names, disciplines, current business or school mailing addresses, e-mail addresses of the Programs' scholarship and loan repayment participants to contractors, Ambassadors, Alumni, and professional organizations in underserved communities for the purpose of supporting these clinicians in the course of their service obligation in HPSAs and critical nursing shortage facilities.

7. HHS or its contractors may disclose records consisting of a SEARCH participant's name, mailing address, e-mail address, phone number, health professions school, residency training and specialty to State Primary Care Offices (PCOs) and Primary Care Associations (PCAs) and site representatives for the purpose of matching participants to potential employment sites.

8. HHS may disclose records to Department grantees, sites, contractors and subcontractors who assist with the implementation of the above-identified Programs, for the purposes of collecting, compiling, aggregating, analyzing, or refining records in the system, or improving Program operations. Grantees and contractors maintain, and contractors are also required to ensure that subcontractors maintain, Privacy Act safeguards with respect to such records.

9. HHS may disclose biographical data and information supplied by Program applicants or participants (a) to references listed on application and associated forms for the purpose of evaluating the applicant's or participant's professional qualifications, experience, and suitability; (b) to a State or local government licensing board and/or to the Federation of State Medical Boards or a similar non-government entity for the purpose of verifying that all claimed background and employment data are valid and all claimed credentials are current and in good standing; and (c) to prospective employers, or to site representatives, PCAs and PCOs for the purpose of appraising the applicant's professional qualifications and suitability for site assignment or employment.

10. HHS may disclose an applicant's or participant's name, mailing address, e-mail address, phone number, health professions school, residency training and specialty to Department grantees, sites, contractors and subcontractors who assist with the implementation of the above-identified Programs, for the purpose of recruiting, screening, evaluating, and matching, placing or assigning health professionals to a service site appropriate to the relevant Program's purposes. In addition, Department grantees, contractors and subcontractors may disclose biographical data and information supplied by Program applicants, participants, or references listed on application and associated forms (a) to other references for the purpose of evaluating the applicant's or participant's professional qualifications, experience, and suitability; (b) to a State or local government licensing board and/or to the Federation of State Medical Boards or a similar non-government entity for the purpose of verifying that all claimed background and employment data are valid and all claimed credentials are current and in good standing; (c) to the Excluded Parties List System for the purpose of determining whether they appear as suspended, debarred, or disqualified from participation in covered transactions; (d) to the National Practitioner Data Bank and/or Healthcare Integrity and Protection Data Bank for the purpose of determining whether they have information on their reports; and (e) to prospective employers, or to site representatives, for the purpose of appraising the applicant's professional qualifications and suitability for site assignment or employment. Grantees and contractors maintain, and contractors are also required to ensure that subcontractors maintain Privacy Act safeguards with respect to such records.

11. HHS may disclose records consisting of name, mailing address, e-mail address, phone number, SSN, specialty, and requested or actual placement site(s) to State PCOs and PCAs and site representatives to facilitate PCO, PCA and site activities related to recruitment and placement of Program participants at service sites and monitoring compliance with the program participant's service obligation.

12. HHS may disclose records consisting of name, address, SSN, employment history, educational data, accreditation, licensing, and professional qualification data to a State or local government licensing board and/or to the Federation of State Medical Boards or a similar non-government entity which maintains records concerning: (a) An individual's employment history; (b) the issuance, retention, suspension, revocation, or reinstatement of licenses or registrations necessary to practice a health professional occupation or specialty; (c) disciplinary action against the individual or other sanctions imposed by a State or local government licensing board; or (d) the individual's attempts to pass health professions licensure exam(s). The purposes of this disclosure are: (1) To enable HHS to obtain information relevant to a decision concerning a health professional's accomplishments, professional and personal background qualifications, experience, and any licensure sanctions related to substance abuse, to determine the individual's suitability for employment, retention, or termination as a health services provider at a health care facility approved by the relevant Program, and (2) to inform health professions licensing boards or the appropriate non-government entities about the health care practices or conduct of a practicing, terminated, resigned, or retired health services provider whose professional conduct so significantly failed to conform to generally accepted standards of professional practice for health care providers as to raise reasonable concern for the health and safety of patients.

13. HHS may disclose information consisting of name, address, SSN, health professions license number, and place of employment from this system of records to Federal, State, or local health agencies and law enforcement regarding a program participant who has a physical or mental condition that is, or has the potential to become, a risk to patients or to the public at large, or whose aberrant behavior poses such a risk (e.g., commission of a sexual assault, illegal use or distribution of narcotics).

14. HHS may disclose information from this system of records to a consumer reporting agency, as defined in 31 U.S.C. 3701(a)(3), for the following purposes:

(a) To obtain a commercial credit report to assess the creditworthiness of a scholarship or loan repayment applicant;

(b) To verify information provided on the scholarship or loan repayment application concerning whether the applicant has ever defaulted on a Federal or State obligation or had delinquent Federal or State debts, including judgment liens;

(c) To determine and verify the eligibility of loans submitted for repayment;

(d) To assess and verify ability of a debtor to repay debts owed to the Federal Government; and

(e) To locate delinquent and/or non-compliant defaulters;

(f) To provide an incentive for debtors to repay delinquent Federal debts by making these debts part of their credit records.

Pursuant to 31 U.S.C. 3711(e)(1)(F), the information disclosed to the consumer reporting agency is limited to (i) information necessary to establish the identity of the person, including name, address, and taxpayer identification number; (ii) the amount, status, and history of the claim; and (iii) the agency or program under which the claim arose.

15. HHS may use information from this system of records to prepare and maintain financial management and accounting documentation related to obligations and disbursements of funds, including notifications to the Department of the Treasury related to payments to, or on behalf of, awardees. Disclosures are limited to the individual's name, address, SSN and other information necessary to identify him/her, the funding being sought or amount of qualifying educational loans, and the program under which the applicant is being processed.

16. HHS may disclose information about NHSC LRP, NELRP, and FLRP applicants or participants to lending institutions for the purpose of obtaining payoff balances on educational loans. Disclosure will be limited to the applicant/participant's name, address, SSN, the loan account number(s), the pre-verified loan balance, account status, and other information necessary to identify the LRP applicant/participant and his/her loans for this purpose.

17. HHS may disclose from this system of records a delinquent debtor's or defaulting participant's name, address, SSN, and other information necessary to identify him/her; the amount, status, and history of the claim, and the agency or program under which the claim arose, as follows:

(a) To another Federal agency so that agency can effect a salary offset for debts owed by Federal employees.

(b) To another Federal agency so that agency can effect an authorized administrative offset; i.e., withhold money, other than Federal salaries, payable to or held on behalf of the individual.

(c) To the Treasury Department, Internal Revenue Service (IRS), to request an individual's current mailing address to locate him/her for purposes of either collecting or compromising a debt, or to have a commercial credit report prepared.

18. HHS may disclose information from this system of records to another Federal or State agency that has asked the Department to effect a salary or administrative offset to help collect a debt owed to the United States or to a State (e.g., administrative offset under a reciprocal agreement with a State, pursuant to 31 CFR 285.6). Disclosure includes, but is not limited to, the individual's name, address, SSN, other information necessary to identify the individual, and information about the money payable to or on behalf of, or held for, the individual.

19. HHS may disclose to the Department of the Treasury, IRS, information about an individual applying under the above-identified Programs to find out whether the applicant has a delinquent tax debt. This disclosure is for the sole purpose of determining the applicant's eligibility for funding and/or creditworthiness and is limited to the individual's name, address, SSN, other information necessary to identify him/her, and the program for which the information is being obtained.

20. HHS may disclose information from this system of records to another Federal, State, or local agency or private employer to whom a Program defaulter has applied for Federal grant funds, Federal scholarship, loan, or loan repayment funds, or employment involving Federal funds, for the purpose of ensuring that the Program defaulter does not receive Federal funds for which he/she is ineligible. Disclosure will be limited to the defaulter's name, address, SSN, inclusion on the Excluded Parties List System, and any other information necessary to identify him/her.

21. As required by the HHS Claims Collection regulation at 45 CFR 30.32(c), HHS will report to the Treasury Department, IRS, as taxable income to the debtor, the discharge of any indebtedness of $600 or more when HHS terminates collection activity. The information disclosed may include the individual's name, address, SSN, account number, and amounts written-off, e.g., principal, interest, and any charges assessed by statute.

22. HHS will disclose information from this system of records to any third party that may have information about a defaulting participant's current address, such as a U.S. Post Office, a State motor vehicle administration, a university's office of the registrar or dean's office, a professional organization, an alumni association, etc., for the purpose of obtaining the individual's current address. This disclosure will be strictly limited to information necessary to identify the individual, without any reference to the reason for the agency's need for obtaining the current address.

23. HHS may disclose information from this system of records to the Department of Justice and applicable State agencies in order to exclude a debtor from all Federal health care programs, as defined in 42 U.S.C. 1320a-7b(f), including Medicare and Medicaid, or to conclude a settlement agreement staying such an exclusion.

24. HHS may disclose information from this system of records to other Federal, State, and local agencies, and public and private entities that provide scholarship and/or loan repayment funding or include bonus clauses in employment contracts, for the following purposes: (a) To curtail fraud and abuse of Federal funds by identifying individuals who have applied for, or accepted, funding from another source for performance of the same service; (b) to determine if an applicant has an existing service obligation to another Federal, State, local or other entity; and (c) to collect delinquent debts owed to the Federal Government.

25. HHS may disclose to Federal, State, and local agencies, and public and private non-profit entities for research purposes, the name, address(es), SSN, discipline and site of applicants and participants in the above-identified Programs when the Department:

(a) Has determined that the use or disclosure does not violate legal or policy limitations under which the record was provided, collected, or obtained;

(b) Has determined that a bona fide research/analysis purpose exists;

(c) Has required the recipient to:

(1) Establish strict limitations concerning the receipt and use of applicant- and participant-identified data;

(2) Establish reasonable administrative, technical, and physical safeguards to protect the confidentiality of the data and to prevent the unauthorized use or disclosure of the record;

(3) Remove, destroy, or return the information that identifies the applicant or participant at the earliest time at which removal or destruction can be accomplished consistent with the purpose of the research project, unless the recipient has presented adequate justification of a research nature for retaining such information; and

(4) Make no further use or disclosure of the record except as authorized by HHS or when required by law; and

(d) Has secured a written statement attesting to the recipient's understanding of, and willingness to abide by these provisions.

26. Disclosure may be made in response to a subpoena from another Federal agency having the power to subpoena other agencies' records, such as the Internal Revenue Service or Civil Rights Commission.

27. Disclosure of information from this system of records may be made to the HHS/PSC/Federal Occupational Health Service (FOH) contract physicians to review and provide a written opinion of the medical documentation submitted by scholarship and loan repayment Program participants seeking a suspension or waiver of their service or payment obligation.

28. HHS may disclose records to appropriate Federal agencies and Department contractors that have a need to know the information for the purpose of assisting the Department's efforts to respond to a suspected or confirmed breach of the security or confidentiality of information maintained in this system of records, and the information disclosed is relevant and necessary for that assistance.

Records may be transferred to System No. 09-40-0012, Debt Management and Collection System, HHS/PSC/FMS and System No. 09-90-0024, Unified Financial Management System, HHS, for payment of Program funds and debt collection purposes.

POLICIES AND PRACTICES FOR STORING, RETRIEVING, ACCESSING, RETAINING, AND DISPOSING OF RECORDS IN THE SYSTEM:

1. Storage: Records are maintained in file folders, on servers, and backup servers.

2. Retrievability: Name, Social Security number, or other identifying numbers or characteristics.

3. Safeguards:

A. Authorized Users: Access is limited to persons authorized and needing to use the records, system managers and their staff, BCRS headquarters officials, HRSA Office of Performance Review staff, financial and fiscal management personnel, Office of the General Counsel, Office of Information Technology personnel, Papa Ola Lokahi (with respect to NHHSP records), and HRSA grantees and contractors who assist with implementation of the Programs.

B. Physical Safeguards: Rooms where records are stored are locked when not in use. During regular business hours, rooms are unlocked but are controlled by on-site personnel (including the file room). Security guards perform random checks on the physical security of the storage locations after duty hours, including weekends and holidays.

Servers and other computer equipment used to process identifiable data are located in secured areas and use physical access devices (e.g., keys, locks, combinations, card readers) and/or security guards to control entries into the facility. All facilities housing HRSA information systems maintain fire suppression and detection devices/systems (e.g., sprinkler systems, handheld fire extinguishers, fixed fire hoses, and or smoke detectors) that can be activated in the event of a fire.

With respect to NHHSP records, the building in which POL's office is located is publicly accessible but secured, with limited accessibility before and after work hours. Security guards visit the building at night. NHHSP's office suite is kept locked during work hours and individual offices are also locked when vacant. Participant files are kept in a locked cabinet in a locked office. Access to these files is limited to approved staff members, and when the area the files are in is not under the direct control of NHHSP staff, the office and cabinet are kept locked. The File server is behind a locked office door in a locked server cabinet. Backup tapes are stored in a locked, fireproof floor safe, and a secure, confidential off-site vault.

RETENTION AND DISPOSAL:

Records are retained and disposed of under the authority of the HRSA Records Control Schedule contained in HRSA Appendix B-351, Item 25.P. Participant case files are transferred to the Federal Records Center in Suitland, Maryland, one year after closeout and are destroyed 15 years later. Unfunded or withdrawn applicant case files are destroyed 6 months after the end of the fiscal year in which the individual applied.

SYSTEM MANAGER(S) AND ADDRESS:

• Policy-Coordinating Official: Associate Administrator, Bureau of Clinician Recruitment and Service (BCRS), Health Resources and Services Administration (HRSA), 5600 Fishers Lane, Room 8-05, Rockville, MD 20857.

• Scholarship and Loan Repayment Applicants/Awardees: Director, Division of Applications and Awards, BCRS, HRSA, 5600 Fishers Lane, Room 8-37, Rockville, MD 20857.

• Scholarship and Loan Repayment Participant Placement/Assignment and Service from matching through service completion: Director, Division of Scholar and Clinician Support, BCRS, HRSA, 5600 Fishers Lane, Room 8A-19, Rockville, MD 20857.

• Suspension/Waiver/Default Determination: Director, Legal and Compliance Office, BCRS, HRSA, 5600 Fishers Lane, Room 8-47, Rockville, MD 20857.

• NHHSP: Administrator, Papa Ola Lokahi, 345 Queen St., # 706, Honolulu, HI 96813.

• SEARCH: Recruitment and Retention Support Branch, Division of Site and Clinician Recruitment, BCRS, HRSA, 5600 Fishers Lane, Room 8A-55, Rockville, MD 20857.

• Ready Responders, Ambassadors, Alumni, and Volunteers: Division of Site and Clinician Recruitment, BCRS, HRSA, 5600 Fishers Lane, Room 8A-55, Rockville, MD 20857.

NOTIFICATION PROCEDURE:

To find out if the system contains records about you, contact the Policy-Coordinating Official. The Policy-Coordinating Official will then refer the requester to the appropriate System Manager.

REQUESTS IN PERSON:

A subject individual who appears in person at a specific location seeking access to or disclosure of records relating to him/her shall provide his/her name, current address, Social Security number or other identifying information (e.g., date of birth, place of birth), dates of participation in one of the above-identified Programs, (or date of application if the individual was not selected for the program) and at least one piece of tangible identification, such as driver's license, passport, or voter registration card. Identification papers with current photographs are preferred but not required. (A Federal-issued picture ID is required to access many Federal facilities such as the Parklawn Building.) If a subject individual has no identification but is personally known to an agency employee, such employee shall make a written record verifying the subject individual's identity. Where the subject individual has no identification papers, the responsible agency official shall require that the subject individual certify in writing that he/she is the individual who he/she claims to be and that he/she understands that the knowing and willful request or acquisition of a record concerning an individual under false pretenses is a criminal offense subject to a $5,000 fine.

REQUESTS BY MAIL:

A written request must contain the name and address of the requester, Social Security number or other identifying information, and his/her signature which is either notarized to verify his/her identity or includes a written certification that the requester is the person he/she claims to be and that he/she understands that the knowing and willful request or acquisition of records pertaining to an individual under false pretenses is a criminal offense subject to a $5,000 fine. In addition, the following information is needed: dates of participation in one of the above-identified Programs and current status, such as in training, in deferment, in service, in default, or date of application if the individual was not selected for the program.

REQUESTS BY TELEPHONE:

Since positive identification of the caller cannot be established, telephone requests are not honored.

RECORD ACCESS PROCEDURES:

Same as notification procedures. Requesters should also provide a reasonable description of the record being sought. Requesters may also ask for an accounting of disclosures that have been made of their records, if any.

CONTESTING RECORD PROCEDURES:

Same as notification and access procedures. Contact the Policy-Coordinating Official, provide a reasonable description of the record, specify the information being contested, the corrective action sought, and the reasons for requesting the correction, along with supporting information to show how the record is inaccurate, incomplete, untimely, or irrelevant.

RECORD SOURCE CATEGORIES:

Subject individual; educational institutions; internship and/or residency training progress reports; employers; NHSC approved service sites; critical nursing shortage facilities; lending institutions and loan servicing agencies; health professional associations; National Practitioner Data Bank and/or Healthcare Integrity and Protection Data Bank, HHS grantees and contractors/subcontractors; consumer reporting agencies/credit bureaus; other Federal agencies, including but not limited to the Department of the Treasury, IRS, and the U.S. Postal Service; State health professions licensing boards and/or the Federation of State Medical Boards or a similar non-government entity; and third parties who provide references concerning the subject individual.

SYSTEMS EXEMPTED FROM CERTAIN PROVISIONS OF THE ACT:

None.

[FR Doc. 2010-7923 Filed 4-7-10; 8:45 am]

BILLING CODE 4160-15-P